FEDERAL MARITIME COMMISSION

Ocean Transportation Intermediary License; Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicant:

Oceans Consolidators, 9990 NW, 14th Street, Suite 103, Miami, FL 33172, Officers: Carlos J. Bengochea, President (Qualifying Individual), Olga R. Bengochea, Treasurer.

Non-Vessel—Operating Common Carrier and Ocean Freight Forwarder Transportation Intermediary Applicants:

Con-Way Global Solutions, Inc., dba Con-Way Air Express, 277 Southfield Parkway, Suite 170, Forest Park, GA 30297, Officer: Harold Gary Weekley, Asst. Secretary (Qualifying Individual).

Four Points International, 16 Nantucket Court, Howell, NJ 07731, George Mario Luna, Sole Proprietor.

Bryant L. VanBrakle,
Secretary.

[FR Doc. 05-10459 Filed 5-24-05; 8:45 am]

BILLING CODE 6730-01-P